DEPARTMENT OF COMMERCE

International Trade Administration

[A-570-848]

Freshwater Crawfish Tail Meat From the People's Republic of China: Final Results of Antidumping Duty Administrative Review and New Shipper Review; 2014-2015

AGENCY: Enforcement and Compliance, International Trade Administration, Department of Commerce.

SUMMARY: On October 12, 2016, the Department of Commerce (the Department) published the preliminary results of the administrative review and new shipper review of the antidumping duty order on freshwater crawfish tail meat from the People's Republic of China (the PRC). Based on our analysis of the comments received, we have made changes to our margin calculations for the final results. As a result of these changes, the final weighted-average dumping margins for the reviewed firms are listed below in the section entitled “Final Results of the Administrative Review and New Shipper Review.”

DATES: Effective April 12, 2017.

FOR FURTHER INFORMATION CONTACT: Hermes Pinilla or Minoo Hatten, AD/CVD Operations, Office I, Enforcement and Compliance, International Trade Administration, U.S. Department of Commerce, 1401 Constitution Avenue NW., Washington, DC 20230; telephone: (202) 482-3477 or (202) 482-1690, respectively.

SUPPLEMENTARY INFORMATION:

Background

These final results cover four producers/exporters of subject merchandise, China Kingdom (Beijing) Import & Export Co., Ltd. (China Kingdom), Xuzhou Jinjiang Foodstuffs Co., Ltd. (Xuzhou Jinjiang), Hubei Nature Agriculture Industry Co., Ltd (Hubei Nature), and Hubei Qianjiang Aquatic Food and Product Co., Ltd. (Hubei Qianjiang). The period of review (POR) for the aligned administrative review and the new shipper review is September 1, 2014, through August 31, 2015.¹ On October 12, 2016, we published the preliminary results of these reviews.² On October 17, 2016, we issued a post-preliminary analysis memorandum.³ We received a case brief from Xuzhou Jinjiang on December 16, 2016, and a rebuttal brief from the petitioners, the Crawfish Processors Alliance (CPA) on December 23, 2016.⁴

¹ On February 2, 2016, in accordance with 19 CFR 351.214(j)(3), the Department aligned the new shipper review with the administrative review. See Memorandum to the File entitled, “Alignment of New Shipper Review of Freshwater Crawfish Tail Meat from the People's Republic of China with the concurrent administrative review of Freshwater Crawfish Tail Meat from the People's Republic of China,” dated February 2, 2016.

² See Freshwater Crawfish Tail Meat from the People's Republic of China: Preliminary Results of Antidumping Duty Administrative Review and New Shipper Review; 2014-2015, 81 FR 70389 (October 12, 2016) (Preliminary Results), and accompanying Decision Memorandum (Preliminary Decision Memorandum).

³ See Memorandum to James Maeder, Senior Director, AD/CVD Operations, Office I, “Freshwater Crawfish Tail Meat from the People's Republic of China—Post-Preliminary Analysis Memorandum,” dated October 17, 2016.

⁴ See case brief from Xuzhou Jinjiang Foodstuffs Co. (Xuzhou Jinjiang), dated December 16, 2016, and rebuttal brief from the petitioners, the Crawfish Processors Alliance (CPA), dated December 23, 2016.

On January 9, 2017, we issued a memorandum extending the time limit for the final results of these reviews to April 10, 2017.⁵

⁵ See Memorandum to Gary Taverman, Associate Deputy Assistant Secretary for Antidumping and Countervailing Duty Operations, extending the Final Results, dated January 9, 2017.

We conducted these reviews in accordance with sections 751(a)(1)(B) and 751(a)(2)(B) of the Tariff Act of 1930, as amended (the Act).

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, the Department added HTSUS classification number 0306.29.01.00 to the scope description pursuant to a request by U.S. Customs and Border Protection (CBP). The HTSUS numbers are provided for convenience and customs purposes only. The written description of the scope is dispositive. A full description of the scope of the order is contained in the Issues and Decision Memorandum.⁶

⁶ See Memorandum to Ronald K. Lorentzen, Acting Assistant Secretary for Enforcement and Compliance, from Gary Taverman, Associate Deputy Assistant Secretary for Antidumping and Countervailing Duty Operations, “Issues and Decision Memorandum for the Final Results of Antidumping Duty Administrative Review and New Shipper Review of Freshwater Crawfish Tail Meat from the People's Republic of China,” dated concurrently with and hereby adopted by this notice (Issues and Decision Memorandum).

Analysis of Comments Received

All issues raised in the case and rebuttal briefs by parties in these reviews are addressed in the Issues and Decision Memorandum, which is hereby adopted by this notice. A list of the issues raised is attached to this notice as an appendix. The Issues and Decision Memorandum is a public document and is on file electronically via Enforcement and Compliance's Antidumping and Countervailing Duty Centralized Electronic Service System (ACCESS). ACCESS is available to registered users at http://access.trade.gov and is available to all parties in the Central Records Unit, Room B8024 of the main Department of Commerce building. In addition, a complete version of the Issues and Decision Memorandum can be accessed directly on the Enforcement and Compliance Web site at http://enforcement.trade.gov/frn/.

Changes Since the Preliminary Results

Based on our analysis of comments received, we made two revisions that changed the results for all respondents.⁷

⁷ See Issues and Decision Memorandum at Comments 1 and 2.

Final Results of the Administrative Review

For the final results of the administrative review, we determine that the following percentage weighted-average dumping margins exist for the period September 1, 2014, through August 31, 2015:

Producer/exporter | Weighted- average margin (%)
China Kingdom (Beijing) Import & Export Co., Ltd | 0.00
Xuzhou Jinjiang Foodstuffs Co., Ltd | 0.00
Hubei Nature Agriculture Industry Co., Ltd | 0.00

Final Results of the New Shipper Review

For the final results of the new shipper review, the Department determines that a dumping margin of 0.00 percent exists for merchandise produced and exported by Hubei Qianjiang Aquatic Food and Product Co., Ltd., covering the period September 1, 2014, through August 31, 2015.

Separate Rate for a Non-Selected Company

Hubei Nature is the only exporter of crawfish tail meat from the PRC that demonstrated its eligibility for a separate rate which was not selected for individual examination in this review. The calculated rates of the respondents selected for individual examination have changed since the Preliminary Results and are now all zero. Neither the Act, nor the Department's regulations address the establishment of the dumping margin applied to separate rate companies not selected for individual examination where the Department limits its individual examination in an administrative review pursuant to section 777A(c)(2) of the Act. The Department's practice in administrative reviews involving limited selection based on exporters accounting for the largest volume of subject merchandise during the period of review has been to look to section 735(c)(5) of the Act for guidance, which provides instructions for calculating the all-others rate in an antidumping investigation. Under section 735(c)(5)(A) of the Act, the Department avoids calculating an all-others rate using rates that are zero, de minimis, or based entirely on facts available in investigations. Section 735(c)(5)(B) of the Act provides that, where all dumping margins established for the mandatory respondents are zero, de minimis, or based entirely on facts available, the Department may use “any reasonable method for assigning an all-others rate. In these final results of review, the dumping margins determined for the mandatory respondents are either zero, de minimis, or based entirely on AFA. Therefore, in accordance with section 735(c)(5)(B) of the Act, we have applied to the non-individually examined companies eligible for a separate rate a dumping margin equal to the simple average of the zero and AFA rates determined for the mandatory respondents.

In light of the Federal Circuit's decision in Albemarle Corp. v. United States, 821 F.3d 1345 (Fed. Cir. 2016), we have concluded that in this review that a reasonable method for determining the rate for the non-selected company, Hubei Nature, is to apply the average of the zero margins calculated for the two mandatory respondents in the administrative review, China Kingdom and Xuzhou Jinjiang. For a detailed discussion, see Issues and Decision Memorandum.

Assessment Rates

Pursuant to section 751(a)(2)(A) of the Act, and 19 CFR 351.212(b), the Department will determine, and U.S. Customs and Border Protection (CBP) shall assess, antidumping duties on all appropriate entries covered by these reviews. In accordance with 19 CFR 351.212(b)(1), we have calculated importer-specific (or customer-specific) assessment rates for merchandise subject to these reviews.

For these final results, we divided the total dumping margins (calculated as the difference between normal value and export price) for each of the respondents' importers or customers by the total number of kilograms the exporter sold to that importer or customer. We will direct CBP to assess the resulting per-kilogram dollar amount against each kilogram of merchandise in each of that importer's/customer's entries during the review period.

For entries that were not reported in the U.S. sales databases submitted by companies individually examined during these reviews, the Department will instruct CBP to liquidate such entries at the PRC-wide rate. We intend to issue assessment instructions to CBP 15 days after the date of publication of these final results of reviews.

Cash Deposit Requirements

The following cash deposit requirements will be effective upon publication of the final results of the administrative review for all shipments of the subject merchandise entered, or withdrawn from warehouse, for consumption on or after the publication date as provided by section 751(a)(2)(C) of the Act: (1) For subject merchandise exported by the companies listed above, no cash deposit will be required for that exporter; (2) for previously investigated companies not listed above that have separate rates, the cash deposit rate will continue to be the company-specific rate published for the investigation; (3) for all other PRC exporters of subject merchandise which have not been found to be entitled to a separate rate, the cash deposit rate will be the PRC-wide rate of 223.01 percent; and (4) for all non-PRC exporters of subject merchandise which have not received their own rate, the cash deposit rate will be the rate applicable to the PRC entity that supplied that non-PRC exporter.

With respect to Hubei Qianjiang, the respondent in the new shipper review, the Department established a combination cash deposit rate for this company consistent with its practice, as follows: (1) For subject merchandise produced and exported by Hubei Qianjiang the cash deposit rate will be the rate established in the final results of the new shipper review; (2) for subject merchandise exported by Hubei Qianjiang, but not produced by Hubei Qianjiang, the cash deposit rate will be the rate for the PRC-wide entity; and (3) for subject merchandise produced by Hubei Qianjiang, but not exported by Hubei Qianjiang, the cash deposit rate will be the rate applicable to the exporter.

These deposit requirements, when imposed, shall remain in effect until further notice.

Disclosure

We intend to disclose the calculations performed to parties in this proceeding within five days after public announcement of the final results in accordance with 19 CFR 351.224(b).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these final results of administrative and new shipper reviews in accordance with sections 751(a)(1), 751(a)(2)(B)(iii), 751(a)(3), 777(i) of the Act and 19 CFR 351.213(h) and 351.214.

Dated: April 6, 2017.
Ronald K. Lorentzen,
Acting Assistant Secretary for Enforcement and Compliance.

Appendix

List of Topics Discussed in the Issues and Decision Memorandum

A. Summary

B. Background

C. Surrogate Country

D. Separate Rates

E. Separate Rate for a Non-Selected Company

F. Discussion of the Issues

1. Use of Financial Information To Value Factory Overhead, Selling, General & Administrative (SG&A) Expenses, and Profit

2. Selection of Surrogate Value for Freight, and Brokerage and Handling Expenses

3. Value Added Tax Reduction

G. Recommendation

[FR Doc. 2017-07363 Filed 4-11-17; 8:45 am]

BILLING CODE 3510-DS-P